DEPARTMENT OF ENERGY

Federal Energy Regulatory Commission

[Docket No. RM01-12-000]

Standard Market Design; Continuing Efforts To Standardize Inputs and Outputs for Electric Market Software

September 24, 2002.

AGENCY: Federal Energy Regulatory Commission, DOE.

ACTION: Notice of conference and agenda.

SUMMARY: As announced in the Commission's August 22, 2002, Notice of Follow-up Staff Conference on data and software standards (67 FR 55230, August 28, 2002) the Commission is convening a technical conference on October 3, 2002 at 9:00 a.m. to discuss continued efforts to standardize inputs and outputs for electric market software in connection with the implementation of the Commission's Standard Market Design (SMD) Rule. By this notice, the Commission is providing an agenda for the conference.

DATES: The Conference will be convened on October 3, 2002.

ADDRESSES: Federal Energy Regulatory Commission, 888 First Street, NE., Room—2C, Washington, DC 20426.

FOR FURTHER INFORMATION CONTACT: René Forsberg , Office of Markets, Tariff and Rates, Federal Energy Regulatory Commission, 888 First Street, NE., Washington, DC 20426, (202) 502-8425. E-mail: Rene.forsberg@ferc.gov.

SUPPLEMENTARY INFORMATION:

Notice of Conference and Agenda

As announced in the Notice of Conference issued August 22, 2002, the staff of the Federal Energy Regulatory Commission (Commission) will hold a follow-up conference to the July 18, 2002 Conference on Data and Software Standards. This conference is scheduled forOctober 3, 2002 to continue our efforts to standardize inputs and outputs for electric market software in connection with the implementation of the Commission's Standard Market Design (SMD) rule. The conference will start at 9 a.m. the Federal Energy Regulatory Commission, 888 First Street, NE., in Washington DC, in the Commission Meeting Room .

Consistent with the Commission's efforts to assure the efficient operation of wholesale energy markets under the control of independent transmission and market operators, the second conference on software for SMD will explore the question of how to maximize the value and minimize the developmental and user costs of grid and market software and data transfers. This conference will seek to answer, through collaborative discussion, the questions of the appropriate process to develop more standardized and compatible software and data, what entities play a role in developing market and business rules and standards, and how should these matters be organized within the wholesale electric industry stakeholders for timely and cost effective success. The day's Agenda is attached.

Also attached is a chart that depicts our current view of the standards development process under the Commission's SMD. The RTO seams issues are to be developed by the Commission. Scheduling and other market and communication standards are to be developed by NAESB. The state estimator and other operational data standards are to be developed by NAESB, EPRI or by another approach. The chart also raises the question of whether there will be seams issues if the market and operational standards are developed by the same body.

New participants are invited to review recent activities on standard market design at http://www.ferc.gov/Electric/RTO/Mrkt-Strct-comments/smd.htm. For the Notice of Proposed Rulemaking on Remedying Undue Discrimination Through Open Access Transmission Service and Standard Electricity Market Design (particularly paragraphs 351-360), click on Standard Market Design and Structure NOPR; for the transcript of the July 18, 2002, Technical Conference on Data and Software Standards, click on: SMD Structure and Conferences.

The conference will be transcribed. Those interested in acquiring the transcript should contact Ace Reporters at 202-347-3700 or 800-336-6646. Transcripts will be placed in the public record ten days after the Commission receives the transcripts. Additionally, Capitol Connection offers the opportunity for remote listening and viewing of the conference. It is available for a fee, live or over the Internet, via C-Band Satellite. Persons interested in receiving the broadcast, or who need information on making arrangements should contact David Reininger or Julia Morelli at Capitol Connection (703-993-3100) as soon as possible or visit the Capitol Connection Web site at http://www.capitolconnection.gmu.edu and click on “FERC.”

All interested parties are invited to attend. There is no registration fee. For additional information, please contact René Forsberg at 202-502-8425 (new phone number) or Rene.Forsberg@ferc.gov.

Linwood A. Watson, Jr.,
Deputy Secretary.

Attachments:

Chart: Standards Developments Under SMD

Conference Agenda

Conference Agenda—October 3, 2002

• Opening Remarks: 9 a.m.-9:05 a.m.

• Who Has a Role in Standard-Setting? 9:05 a.m.-10:30 a.m.

John Canavan Chairman, Electronic Scheduling Collaborative

Jim Buccigross Chairman, Executive Committee, NAESB/GISB

Robert Cummings NERC

Peter Hirsch Vice President Power Delivery Markets, EPRI

Gordon van Welie President/CEO, New England—ISO

Data and Software Standard-Setting Process: 10:30 a.m-11:45 a.m.

Brian Hewson Manager—Energy Licensing, Market Readiness Project Manager, ONTARIO ENERGY BOARD/IMO

Lockheed Martin To Be Announced

Data Interchange-Standards Association To Be Announced

Jim Buccigross Chairman, Executive Committee, NAESB/GISB

• Lunch: 11:45 a.m.-1 p.m.

• Developing the Plan for Wholesale Electric Market and Grid Software Consistency: 1 p.m.-3:30 p.m.

Gordon van Welie President/CEO, New England ISO

Jay Britton Senior Systems Architect, ALSTOM/ESCA

Gary Michor President/CEO, The SPI Group

Petar Ristanovic Executive Consultant, Siemens.

Andy Ott Gen. Mgr. of Mkt. Coordination, PJM-ISO.

[FR Doc. 02-24844 Filed 10-1-02; 8:45 am]

BILLING CODE 6717-01-P